DEPARTMENT OF ENERGY

Federal Energy Regulatory Commission

[Docket No. ER00-2234-000]

East Central Area Reliability Council, et al.; Notice of Filing

April 28, 2000.

Take notice that on April 18, 2000, the East Central Area Reliability Council (ECAR), on behalf of Allegheny Power, American Electric Power Co., Big Rivers Electric Corp., Cinergy Corp., Consumers Energy Co., The Dayton Power and Light Co., the Detroit Edison Co., Duquesne Light Co., East Kentucky Power Cooperative, Inc., FirstEnergy Corp., Hoosier Energy REC, Indianapolis Power and Light Co., LG&E Energy Corp., Northern Indiana Public Service Co., Ohio Valley Electric Corp., and Southern Indiana Gas and Electric Co., submitted for filing an Inadvertent Settlement Tariff that is intended to obligate each party to make payment and to entitle each party to receive compensation for Inadvertent Interchange from each other party pursuant to ECAR's Inadvertent Settlement Procedure.

ECAR requests the Inadvertent Settlement Tariff to go into effect by June 1, 2000 for the 2000 peak summer season.

ECAR states that all parties were served and that the filing is also available on their web site (www.ecar.org).

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before May 9, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-10993 Filed 5-2-00; 8:45 am]

BILLING CODE 6717-01-M